ENVIRONMENTAL PROTECTION AGENCY

[EPA-HQ-OPP-2023-0068; FRL-11445-01-OCSPP]

CGI Federal, Inc. and Zachary Piper, LLC; Transfer of Data September 2023

AGENCY: Environmental Protection Agency (EPA).

ACTION: Notice.

SUMMARY: This notice announces that pesticide related information submitted to EPA's Office of Pesticide Programs (OPP) pursuant to the Federal Insecticide, Fungicide, and Rodenticide Act (FIFRA) and the Federal Food, Drug, and Cosmetic Act (FFDCA), including information that may have been claimed as Confidential Business Information (CBI) by the submitter, will be transferred to CGI Federal, Inc. and its subcontractor, Zachary Piper, LLC, in accordance with the CBI regulations. CGI Federal, Inc. and its subcontractor, Zachary Piper, LLC, have been awarded a contract to perform work for OPP, and access to this information will enable CGI Federal, Inc. and its subcontractor, Zachary Piper, LLC to fulfill the obligations of the contract.

DATES: CGI Federal, Inc. and its subcontractor, Zachary Piper, LLC will be given access to this information on or before October 18, 2023.

FOR FURTHER INFORMATION CONTACT: William Northern, Information Technology and Resources Management Division (7502P), Office of Pesticide Programs, Environmental Protection Agency, 1200 Pennsylvania Ave. NW, Washington, DC 20460-0001; telephone number: (202) 566-1493 email address: northern.william@epa.gov.

SUPPLEMENTARY INFORMATION:

I. General Information

A. Does this Action apply to me?

This action applies to the public in general. As such, the Agency has not attempted to describe all the specific entities that may be affected by this action.

B. How can I get copies of this document and other related information?

The docket for this action, identified by docket identification (ID) number EPA-HQ-OPP-2023-0068, is available at https://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (202) 566-0294. Please review the visitor instructions and additional information about the docket available at https://www.epa.gov/dockets.

II. Contractor Requirements

Under Contract No. 47QFCA23R0032, CGI Federal, Inc. and its subcontractor, Zachary Piper, LLC, will support the application development and operations of EPA's enterprise. The initial focus of this TO is the development, support, and operations of EPA's Central Data Exchange (CDX) followed by development and gouvernance across the agency within the context and goals of EPA's digital strategy.

OPP has determined that access by CGI Federal, Inc. and its subcontractor, Zachary Piper, LLC, to information on all pesticide chemicals is necessary for the performance of this contract.

Some of this information may be entitled to confidential treatment. The information has been submitted to EPA under FIFRA sections 3, 4, 6, and 7 and under FFDCA sections 408 and 409.

In accordance with the requirements of 40 CFR 2.307(h)(2), the contract with CGI Federal Inc. and its subcontractor, Zachary Piper, LLC, prohibits use of the information for any purpose not specified in the contract; prohibits disclosure of the information to a third party without prior written approval from the Agency; and requires that each official and employee of the contractor sign an agreement to protect the information from unauthorized release and to handle it in accordance with the FIFRA Information Security Manual. In addition, CGI Federal, Inc. and its subcontractor, Zachary Piper, LLC, are required to submit for EPA approval a security plan under which any CBI will be secured and protected against unauthorized release or compromise. No information will be provided to CGI Federal, Inc. and its subcontractor, Zachary Piper, LLC, until the requirements in this document have been fully satisfied. Records of information provided to CGI Federal, Inc. and its subcontractor, Zachary Piper, LLC, will be maintained by EPA Project Officers for this contract. All information supplied to CGI Federal, Inc. and its subcontractor, Zachary Piper, LLC, by EPA for use in connection with this contract will be returned to EPA when CGI Federal, Inc. and its subcontractor, Zachary Piper, LLC, have completed their work.

Authority: 7 U.S.C. 136 et seq.; 21 U.S.C. 301 et seq.

Dated: October 4, 2023.
Delores Barber,
Director, Information Technology and Resources Management Division, Office of Program Support.

[FR Doc. 2023-22557 Filed 10-12-23; 8:45 am]

BILLING CODE 6560-50-P